DEPARTMENT OF STATE

[Public Notice 12582]

60-Day Notice of Proposed Information Collection: U.S. Passport Renewal Application for Eligible Individuals

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department of State will accept comments from the public up to January 27, 2025.

ADDRESSES: You may submit comments by any of the following methods:

• Web: Persons with access to the internet may comment on this notice by going to www.Regulations.gov. You can search for the document by entering Docket Number: DOS-2024-0043 in the Search field. Then click the “Comment Now” button and complete the comment form. Email and regular mail options have been suspended to centralize receiving and addressing all comments in a timely manner.

Email: Passport-Form-Comments@State.gov.

You must include the DS form number (if applicable), information collection title, and the OMB control number in the email subject line.

SUPPLEMENTARY INFORMATION:

• Title of Information Collection: U.S. Passport Renewal Application for Eligible Individuals.

• OMB Control Number: 1405-0020.

• Type of Request: Revision of a Currently Approved Collection.

• Originating Office: Bureau of Consular Affairs, Passport Services, Office of Program Management and Operational Support (CA/PPT/S/PMO).

• Form Number: DS-82.

• Respondents: Individuals or Households.

• Estimated Number of Respondents: 8,321,500.

• Estimated Number of Responses: 8,321,500.

• Average Time per Response: 40 minutes.

• Total Estimated Burden Time: 5,547,700 hours per year.

• Frequency: On occasion.

• Obligation To Respond: Required to Obtain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The U.S. Passport Renewal Application for Eligible Individuals (form DS-82) is used by eligible citizens and non-citizen nationals of the United States who need to renew their current or recently expired U.S. passport.

Methodology

Passport Services collects information from U.S. nationals when they complete and submit the DS-82. The Department features an online application process called Online Passport Renewal (OPR). Using the online platform, eligible applicants can complete the required steps for passport renewal. Passport applicants can download the DS-82 from the internet or obtain the form from an acceptance facility/passport agency. The form must be completed, signed, and submitted by mail or in person at an acceptance facility, passport agency, or U.S. embassy/consulate (if abroad).

Amanda E Smith,
Managing Director for Passport Support Operations, Bureau of Consular Affairs, Passport Services, Department of State.

[FR Doc. 2024-27705 Filed 11-25-24; 8:45 am]

BILLING CODE 4710-06-P